DEPARTMENT OF COMMERCE

National Oceanic and Atmospheric Administration

50 CFR Part 635

RIN 0648-BB29

Atlantic Highly Migratory Species; Atlantic Shark Management Measures

AGENCY: National Marine Fisheries Service (NMFS), National Oceanic and Atmospheric Administration (NOAA), Commerce.

ACTION: Stock Status Determinations; Notice of Intent (NOI) to prepare an Environmental Impact Statement (EIS); request for comments.

SUMMARY: Based on the 2010/2011 Southeast Data, Assessment and Review (SEDAR) assessments for sandbar, dusky, and blacknose sharks, NMFS is declaring the following stock status determinations. Sandbar sharks are still overfished, but no longer experiencing overfishing. Dusky sharks are still overfished and still experiencing overfishing (i.e., their stock status has not changed). Blacknose sharks were assessed as two separate stocks for the first time in the 2010/2011 assessment (Atlantic and Gulf of Mexico); therefore, NMFS is making separate stock status determinations for the two blacknose shark stocks. The Atlantic stock is overfished and experiencing overfishing, and the status of the Gulf of Mexico stock is unknown. Scalloped hammerhead sharks were previously determined to be overfished and experiencing overfishing by NMFS in April 2011. As such, NMFS announces its intent to prepare an EIS under the National Environmental Policy Act (NEPA). This EIS would assess the potential effects on the human environment of action proposed through rulemaking to rebuild and end overfishing of these stocks, consistent with the Magnuson-Stevens Fishery Conservation and Management Act (Magnuson-Stevens Act). Through the rulemaking process, NMFS would amend the 2006 Consolidated Highly Migratory Species (HMS) Fishery Management Plan (FMP) and examine management alternatives available to rebuild these shark stocks and end overfishing, as necessary. To begin scoping for that rulemaking process, NMFS is requesting comments on a range of commercial and recreational management measures, in both directed and incidental fisheries, including, but not limited to, quota levels, regional and seasonal quotas, retention limits, gear modifications, and time/area closures.

DATES: Five scoping meetings and a conference call will be held from October through December 2011. See SUPPLEMENTARY INFORMATION for meeting and call dates and locations. Scoping comments must be received no later than 5 p.m., local time, on December 31, 2011.

ADDRESSES: Scoping meetings will be held in Galloway, New Jersey; Morehead City, North Carolina; Panama City and Fort Pierce, Florida; and Belle Chasse, Louisiana. See SUPPLEMENTARY INFORMATION for dates and locations. You may also submit comments on this document, identified by NOAA-NMFS-2011-0229, by any of the following methods:

• Electronic Submission: Submit all electronic public comments via the Federal e-Rulemaking Portal http://www.regulations.gov. To submit comments via the e-Rulemaking Portal, first click the “submit a comment” icon, then enter NOAA-NMFS-2011-0229 in the keyword search. Locate the document you wish to comment on from the resulting list and click on the “Submit a Comment” icon on the right of that line.

• Mail: Submit written comments to Peter Cooper, 1315 East-West Highway, Silver Spring, MD 20910. Please mark the outside of the envelope “Scoping Comments on Amendment 5 to HMS FMP.”

• Fax: (301) 713-1917. Attn: Peter Cooper.

Comments must be submitted by one of the above methods to ensure that the comments are received, documented, and considered by NMFS. Comments sent by any other method, to any other address or individual, or received after the end of the comment period, may not be considered. All comments received are a part of the public record and will generally be posted for public viewing on http://www.regulations.gov without change. All personal identifying information (e.g., name, address, etc.) submitted voluntarily by the sender will be publicly accessible. Do not submit confidential business information, or otherwise sensitive or protected information. NMFS will accept anonymous comments (enter “N/A” in the required fields if you wish to remain anonymous). Attachments to electronic comments will be accepted in Microsoft Word or Excel, WordPerfect, or Adobe PDF file formats only.

For a copy of the stock assessments, please contact Peter Cooper (301) 427-8503.

FOR FURTHER INFORMATION CONTACT: Karyl Brewster-Geisz or Peter Cooper at (301) 427-8503, or Jackie Wilson at (240) 338-3936, or online at http://www.nmfs.noaa.gov/sfa/hms/ or http://www.sefsc.noaa.gov/sedar/Index.jsp.

SUPPLEMENTARY INFORMATION: The Atlantic shark fisheries are managed under the authority of the Magnuson-Stevens Act. The 2006 Consolidated HMS FMP is implemented by regulations at 50 CFR part 635.

Determination of Overfished Shark Fisheries

NMFS' determination of the status of a stock relative to overfishing and an overfished condition is based on both the exploitation rate and the current stock size. Thresholds used to determine the status of Atlantic HMS are fully described in Chapter 3 of the 1999 FMP for Atlantic Tunas, Swordfish, and Shark, and were fully adopted in the 2006 Consolidated HMS FMP. A species is considered overfished when the current biomass is less than the minimum stock size threshold. The minimum stock size threshold is determined based on the natural mortality of the stock and the biomass at maximum sustainable yield (BMSY). Maximum sustainable yield is the maximum long-term average yield that can be produced by a stock on a continuing basis. The biomass can be lower than BMSY, and the stock not declared overfished, as long as the biomass is above the biomass at the minimum stock size threshold. Overfishing may be occurring on a species if the current fishing mortality is greater than the fishing mortality (F) at maximum sustainable yield (FMSY) (F>FMSY). In the case of F, the maximum fishing mortality threshold is FMSY. Thus, if F exceeds FMSY, the stock is experiencing overfishing.

Recent assessments of sandbar, dusky, and blacknose sharks were completed through the SEDAR process (SEDAR 21). The SEDAR process is a cooperative process initiated in 2002 to improve the quality and reliability of fishery stock assessments in the South Atlantic, Gulf of Mexico, and U.S. Caribbean. For these assessments, SEDAR used two face-to-face workshops and a series of webinars. The Data Workshop was a week-long face-to-face meeting, during which fisheries, monitoring, and life history data were reviewed and compiled. The SEDAR 21 Data Workshop was held June 21-25, 2010, in Charleston, SC (May 4, 2010, 75 FR 23676). The Assessment Process was conducted via a series of webinars, during which assessment models were developed and population parameters were estimated using the information provided from the Data Workshop. The SEDAR 21 Assessment Process was held via 18 webinars between September 2010 and January 2011 (August 26, 2010, 75 FR 52510; October 12, 2010, 75 FR 62506; November 17, 2010, 75 FR 70216; December 16, 2010, 75 FR 78679). Finally, the Review Workshop was a week-long face-to-face meeting during which independent experts reviewed the input data, assessment methods, and assessment products. The Review Workshop for these assessments was held in Annapolis, MD, on April 18-22, 2011 (March 15, 2011, 76 FR 13985). All meetings were open to the public, and all materials from these meetings are available on the SEDAR Web site or upon request.

The final 2010/2011 stock assessment reports for sandbar, dusky, and blacknose sharks in the U.S. Atlantic and Gulf of Mexico were recently completed (76 FR 61092, October 3, 2011). In each assessment, a base model was used to assess the individual populations. In addition, numerous sensitivity analyses were conducted during the assessment cycle for each assessment, which provided verification that the results of the assessment were robust to the assumptions about the underlying stock productivity and assumed levels of removal. Of these sensitivity runs, the Review Panel of the SEDAR 21 Review Panel Workshop selected which runs represented plausible “states of nature” of the stocks and requested projections of these and the base model. The ranges based on these selected sensitivity runs and the base models are given below. However, details on the different sensitivity analyses and projections are provided in the SEDAR 21 Stock Assessment Report for each assessment.

In the following stock assessment summaries, total allowable catch (TAC) is equal to the annual catch limit (ACL) for all fisheries that interact with the species, including directed commercial, incidental commercial, and recreational fisheries. After accounting for the mortality associated with other fisheries, NMFS is able to establish quotas for each stock, which are a subset of the ACL or TAC. Copies of the final 2010/2011 SEDAR 21 Stock Assessment Reports for each species are available (see ADDRESSES).

A. Sandbar Sharks

The 2010/2011 sandbar shark stock assessment provides an update from the 2005/2006 stock assessment on the status of the stock and projects their future abundance under a variety of catch levels in the U.S. Atlantic Ocean, Gulf of Mexico, and Caribbean Sea. Based on the 2005/2006 assessment, sandbar sharks were determined to be overfished and experiencing overfishing. NMFS established a rebuilding plan for this species in July 2008. The 2010/2011 assessment includes updated catch estimates, new biological data, and a number of fishery-independent and fishery-dependent catch rate series.

The base model used in the 2010/2011 sandbar assessment, an age-structured production model, indicated that the stock is overfished (spawning stock fecundity [SSF]2009/SSFMSY=0.66), but no longer experiencing overfishing (F2009/FMSY=0.62). In addition, 20 sensitivity runs were performed throughout the assessment cycle. The Review Panel selected seven sensitivity runs in addition to the base model to assess the underlying states of nature of the stock. Current biomass (i.e., SSF) values from these selected sensitivity runs all indicated that the stock is overfished (SSF2009/SSFMSY=0.51-0.72). In addition, current F values from most of the selected sensitivity runs indicated that the stock is currently not experiencing overfishing (F2009/FMSY=0.29-0.93); whereas the low productivity sensitivity run indicated overfishing is occurring (F2009/FMSY=2.62). The assessment scientists, however, noted that the low and high productivity scenarios were unlikely to represent the true state of nature of the stock. Based on this, NMFS has determined that sandbar sharks are still overfished, but are no longer experiencing overfishing. Projections of the base model indicated that there is a 70 percent probability of rebuilding by 2066 with a TAC of 178 metric tons (mt) whole weight (ww) (128 mt dressed weight [dw]). There is a 50 percent probability of rebuilding by 2066 with a TAC of 286 mt ww (205.8 mt dw). The rebuilding year determined from the base model in the 2010/2011 assessment was calculated as the year the stock would rebuild with no fishing pressure (i.e., F=0), or 2046, plus one generation time (the generation time for sandbar sharks is 20 years). The target year for rebuilding ranged from 2047 to 2360 depending on the state of nature (i.e., sensitivity run) of the stock. In addition, it was determined that the current TAC for the fishery (i.e., 220 mt ww or 158.3 mt dw) could result in a greater than 70 percent probability of rebuilding by the current rebuilding date of 2070.

B. Dusky Sharks

The 2010/2011 dusky stock assessment provided an update to the 2006 dusky assessment. This is the first assessment for dusky sharks conducted within the SEDAR process. Based on the 2006 assessment, dusky sharks were determined to be overfished and experiencing overfishing. NMFS established a rebuilding plan for this species in July 2008. The base model used for the 2010/2011 assessment, an age-structured catch-free production model, showed that dusky sharks continue to be overfished (spawning stock biomass [SSB]2009/SSBMSY=0.44) and are still experiencing overfishing (F2009/FMSY=1.59). In addition, 19 sensitivity analyses were performed during the assessment cycle. The Review Panel selected four sensitivity runs in addition to the base model to assess the underlying states of nature of the stock. Current biomass (i.e., SSB) values from these selected sensitivity runs all indicated that the stock is overfished (SSB2009/SSBMSY=0.41-0.50). In addition, current F values from the selected sensitivity runs indicated that the stock is currently experiencing overfishing (F2009/FMSY=1.39-4.35). Based on this, NMFS has determined that dusky sharks are still overfished and experiencing overfishing. The 2006 assessment predicted that dusky sharks could rebuild within 100 to 400 years. The rebuilding year determined from the base model in the 2010/2011 assessment was calculated as the year the stock would rebuild with no fishing pressure (i.e., F=0), or 2059, plus one generation time (the generation time for dusky sharks is 40 years) or 2099. The target year for rebuilding ranged from 2081 to 2257 depending on the state of nature (i.e., sensitivity run) of the stock. The base model indicated that the current fishing mortality (F2009=0.06) would have to be reduced by more than half (to F=0.02) in order to have a 70 percent probability of rebuilding by 2099. The base model also estimated that with the current fishing mortality rate there is a low probability (11 percent) of stock recovery by 2408 (or 400 years).

C. Blacknose Sharks

The 2010/2011 blacknose shark stock assessment provides an update from the 2007 blacknose shark stock assessment. However, unlike the 2007 assessment, the 2010/2011 assessment assessed blacknose sharks for the first time as two separate stocks: a Gulf of Mexico and an Atlantic stock. In addition, because the assessment model for the Gulf of Mexico stock was unable to fit the apparent trends in some of the abundance indices and there was a fundamental lack of fit of the model to some of the input data, the Review Panel of the SEDAR 21 Review Panel Workshop did not accept the stock assessment for the Gulf of Mexico blacknose stock. Therefore, NMFS is declaring the status of the Gulf of Mexico blacknose shark stock as unknown.

For the Atlantic blacknose shark stock, the base model used for the 2010/2011 assessment, an age-structured production model, showed that Atlantic blacknose sharks are overfished (SSF2009/SSFMSY=0.60) and experiencing overfishing (F2009/FMSY=5.02). In addition, 14 sensitivity analyses were performed over the assessment cycle. The Review Panel selected five sensitivity runs in addition to the base model to assess the underlying states of nature of the stock. Current biomass (i.e., SSF) values from these selected sensitivity runs all indicated that the stock is overfished (SSF2009/SSFMSY=0.43-0.64). In addition, current F values from the selected sensitivity runs indicated that the stock is currently experiencing overfishing (F2009/FMSY=3.26-22.53). Based on this, NMFS has determined that the Atlantic blacknose shark stock is overfished and experiencing overfishing. Projections of the base model indicated that the stock could rebuild by 2043 with a TAC of 7,300 blacknose sharks. The rebuilding year determined from the base model in the 2010/2011 assessment was calculated as the year the stock would rebuild with no fishing pressure (i.e., F=0), or 2034, plus one generation time (the generation time for Atlantic blacknose sharks is 9 years). The target year for rebuilding ranged from 2033 to 2086 depending on the state of nature (i.e., sensitivity run) of the stock. Thus, Atlantic blacknose sharks would not be able to rebuild by the current rebuilding target of 2027 under the current fishery-wide TAC of 19,200 blacknose sharks.

Table 1—Summary Table of Biomass and Fishing Mortality for the 2010/2011 SEDAR Shark Stock Assessments
[Age-Structured Production Models (ASPMs) Were Used for Sandbar and Blacknose Sharks, and an Age-Structured Catch-Free Production Model (ASCFM) Was Used for Dusky Sharks]
Species | Current relative biomass level* | Current biomass (SSF2009) | Maximum sustainable yield biomass (SSFMSY) | Minimum stock size threshold (MSST) | Current relative fishing mortality rate (F2009/FMSY) | Maximum fishing mortality threshold (FMSY) | Outlook
Sandbars sharks | 0.51-0.72 (SSF2009/SSFMSY) | 215,900-984,770 | 349,330-1,377,800 | 395,922-423,622 | 0.29-2.62† | 0.004-0.06 | Overfished; overfishing is not occurring.
Dusky sharks | 0.41-0.50 (SSB2009/SSBMSY) | **NA | **NA | **NA | 1.39-4.35 | 0.01-0.05 | Overfished; Overfishing is occurring.
Atlantic blacknose sharks | 0.43-0.64 (SSF2009/SSFMSY) | 38,816-168,300 | 77,577-288,360 | 72,607-77,447 | 3.26-22.53 | 0.01-0.15 | Overfished; Overfishing is occurring.
Gulf of Mexico blacknose sharks | ***NA | ***NA | ***NA | ***NA | ***NA | ***NA | ***NA
* Spawning stock fecundity (SSF) or spawning stock biomass (SSB) was used as a proxy of biomass.
** An age-structured catch-free production model was used for the dusky shark stock assessment; therefore, absolute estimates of number of sharks are not available.
*** The Gulf of Mexico blacknose shark stock assessment was rejected because the model was unable to fit the apparent trends in some of the abundance indices and there was a fundamental lack of fit of the model to some of the input data; therefore, estimates are not available.
† F values from most of the selected sensitivity runs indicated that the stock is currently not experiencing overfishing (F2009/FMSY=0.29-0.93) whereas the low productivity sensitivity run indicated overfishing is occurring (F2009/FMSY=2.62). The assessment scientists, however, noted that the low and high productivity scenarios were unlikely to represent the true state of nature of the stock.

Request for Comments

Currently, both commercial and recreational fishermen may target blacknose sharks. However, dusky sharks are prohibited in all fisheries, and sandbar sharks are only allowed to be commercially harvested within a limited Shark Research Fishery. Recreational anglers are not allowed to retain sandbar sharks. In addition, scalloped hammerhead sharks, which were recently determined to be overfished and experiencing overfishing (April 28, 2011, 76 FR 23794), are managed within the non-sandbar large coastal shark (LCS) complex and are caught in recreational and commercial fisheries targeting sharks and in commercial pelagic longline (PLL) fisheries targeting tuna and swordfish. However, scalloped hammerhead sharks may only be retained when caught in directed recreational and commercial shark fisheries, and they are not allowed to be retained when caught in association with tuna and tuna-like fisheries, such as tuna and swordfish PLL fisheries per a recent final rule (August 29, 2011, 76 FR 53652).

Commercial regulations for blacknose sharks include, but are not limited to, no retention limit for directed shark permit holders, 16 pelagic and small coastal shark (SCS) species combined per vessel per trip for incidental shark permit holders, and an annual blacknose shark quota of 19.9 mt dw, which is adjusted each year for any overharvest in past fishing years. Commercial regulations for scalloped hammerhead sharks include, but are not limited to, a trip limit of 33 non-sandbar LCS for directed shark permit holders and a trip limit of 3 non-sandbar LCS for incidental shark permit holders. Scalloped hammerhead sharks are part of the non-sandbar LCS annual quota of 578.3 mt dw, which is split between the Gulf of Mexico (390.5 mt dw) and the Atlantic (187.8 mt dw). This quota is also adjusted each year for any overharvest from past fishing years. Recreational regulations for blacknose and scalloped hammerhead sharks include, but are not limited to, retention limit of 1 shark per vessel per trip with a 4.5-ft (54-in) fork length minimum size, although blacknose sharks rarely reach this minimum size.

Within the sandbar Shark Research Fishery, sandbar shark harvest is contingent upon the conditions of a Shark Research Fishery Permit, which is issued on an annual basis. There is an annual quota of 116.6 mt dw for sandbar sharks, and as with quotas for blacknose sharks and non-sandbar LCS, this quota is adjusted each year for any overharvest in past fishing years. Vessels participating in the Shark Research Fishery must carry federal fisheries observers whenever harvesting sandbar sharks, and all sharks, including blacknose and scalloped hammerhead sharks, must be offloaded with all their fins naturally attached.

NMFS anticipates changes to shark management as a result of the latest stock assessments through the rulemaking process and requests comments on potential future management options for this action. Five scoping meetings and a conference call will be held (see Table 2 for meeting times and locations) to provide the opportunity for public comment on potential shark management measures. These comments will be used to assist in the development of the upcoming amendment to the 2006 Consolidated Atlantic HMS FMP. Based on the assessment results, NMFS will focus on dusky sharks, which are already prohibited but found to still be experiencing overfishing; scalloped hammerhead sharks, which are often brought to the vessel dead and whose retention is limited in certain fisheries; and Atlantic and Gulf of Mexico blacknose sharks, which may require regional management. It appears that current management measures for sandbar sharks may remain appropriate, with the current TAC having a high probability of rebuilding within the rebuilding timeframe. Because of the mixed nature of the fisheries, it is likely that any changes could affect effort and mortality for all sharks.

Table 2—Time and Locations of the Five Scoping Meetings and Conference Call
Date | Time | Meeting location | Meeting address
October 12, 2011 | 7-9 p.m. | Dolce Seaview Resort | 401 South New York Road, Galloway, NJ 08205.
October 26, 2011 | 5-7 p.m. | Belle Chasse Auditorium | 8398 HWY. 23, Belle Chasse, LA 70037.
November 2, 2011 | 4:30-6:30 p.m. | Southeast Fisheries Science Center, Panama City Laboratory | 3500 Delwood Beach Drive, Panama City, FL 32408.
November 3, 2011 | 4:30-6:30 p.m. | Fort Pierce Branch Library | 101 Melody Lane, Fort Pierce, FL 34950.
December 7, 2011 | 4:30-6:30 p.m. | North Carolina Division of Marine Fisheries, Central District Office | 5285 HWY. 70 West/Arendell Street, Morehead City, NC 28557.
December 15, 2011 | 2-4 p.m. | Conference Call | To participate, please call: 888-989-7538; Passcode: 3994893.

In addition to the five scoping meetings and conference call, NMFS has requested to present the issues and options presentation to the five Atlantic Regional Fishery Management Councils (the New England, Mid-Atlantic, South Atlantic, Gulf of Mexico, and Caribbean Fishery Management Councils) and the Atlantic and Gulf States Marine Fisheries Commissions during the public comment period. Please see the Councils' and Commissions' fall meeting notices for times and locations.

NMFS requests comments on potential commercial management options including, but not limited to, quota levels, regional and seasonal quotas, trip limits, minimum sizes, gear and effort modifications, time/area closures, and prohibited species. In addition, NMFS is seeking comments on recreational management options including, but not limited to, retention limits, minimum sizes, authorized gears, and prohibited species. NMFS also seeks comments on display quotas and collection of sharks through exempted fishing permits, display permits, and scientific research permits. Comments received during scoping will assist NMFS in determining the options for future proposed rulemaking to conserve and manage shark resources and shark fisheries, consistent with the Magnuson-Stevens Act and the 2006 Consolidated HMS FMP. NMFS has drafted an issues and options presentation that summarizes the scalloped hammerhead, sandbar, dusky, and blacknose stock assessments, and offers preliminary ideas on potential management approaches to address overfishing on/overfished stocks in order to encourage and initiate public comment. The scoping meetings will focus on the issues raised in the issues and options presentation. NMFS welcomes additional thoughts and comments on appropriate management measures. The issues/options presentation is available online and by request (see FOR FURTHER INFORMATION CONTACT).

Based on the 2010/2011 stock assessments, NMFS believes the implementation of new management measures via the rulemaking process to amend the 2006 Consolidated HMS FMP is necessary to rebuild Atlantic shark stocks. NMFS anticipates completing this amendment and any related documents in April of 2013.

Dated: October 4, 2011.
Steven Thur,
Acting Director, Office of Sustainable Fisheries, National Marine Fisheries Service.

[FR Doc. 2011-26021 Filed 10-4-11; 4:15 pm]

BILLING CODE 3510-22-P